DEPARTMENT OF TRANSPORTATION

Federal Aviation Administration

14 CFR Part 39

[Docket No. FAA-2005-20874; Directorate Identifier 2004-NM-279-AD; Amendment 39-14311; AD 2005-20-17]

RIN 2120-AA64

Airworthiness Directives; Airbus Model A319-100 Series Airplanes; Model A320-111 Series Airplanes; Model A320-200 Series Airplanes; and Model A321-100 and -200 Series Airplanes

AGENCY: Federal Aviation Administration (FAA), Department of Transportation (DOT).

ACTION: Final rule.

SUMMARY: The FAA is adopting a new airworthiness directive (AD) for certain Airbus airplane models, as specified above. This AD requires modifying the parking brake system to automatically restore the normal brake if the parking brake pressure decreases below a certain threshold. This AD results from a report of failure of the parking brake while the airplane was on the holding point of the runway before takeoff, leading to a runway departure. We are issuing this AD to ensure normal braking is available to prevent possible runway departure in the event of failure of the parking brake.

DATES: This AD becomes effective November 9, 2005.

The Director of the Federal Register approved the incorporation by reference of a certain publication listed in the AD as of November 9, 2005.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A319, A320, and A321 series airplanes. That NPRM was published in the Federal Register on April 6, 2005 (70 FR 17351). That NPRM proposed to require modifying the parking brake system to automatically restore the normal parking brake if the parking brake pressure decreases below a certain threshold.

Comments

We provided the public the opportunity to participate in the development of this AD. We have considered the comments received.

Support for the NPRM

Two commenters support the actions required by the NPRM.

Request To Cite Latest Service Information

One commenter asks that we change the NPRM to refer to the latest revision of Airbus Service Bulletin A320-32-1201, which is Revision 02, dated February 1, 2005. Airbus Service Bulletin A320-32-1201, Revision 01, dated May 29, 2002, was referenced in the NPRM as the appropriate source of service information for accomplishing the specified modification. The commenter states that Revision 02 requires additional work be performed on certain aircraft modified per previous issues of the service bulletin. The commenter suggests that Revision 02 be added to paragraph (f) of the NPRM as the source of service information for accomplishing the modification.

We agree with the commenter. We have added Airbus Service Bulletin A320-32-1201, Revision 02, dated February 1, 2005, which is the most current source of service information for accomplishing the modification in this AD, to paragraph (f) of this AD. Although Revision 02 specifies that additional work is necessary, it adds no work to the original issues of the service bulletin; the section specifying additional work was inadvertently carried over from Revision 01 of the service bulletin. Revision 02 merely includes the results of the validation on Model A321 series airplanes and informs operators that the revised bulletin is mandatory. We have added Revision 02 to paragraph (f), added a new paragraph (g) that allows credit for actions done in accordance with Revision 01 of the service bulletin, and re-identified subsequent paragraphs accordingly.

Request To Revise Cost Estimate

One commenter disagrees with the cost estimates specified in the NPRM and states that the FAA has reduced the original estimates for the modification specified in the service bulletin cited in the NPRM by approximately one-half. The commenter adds that Airbus typically underestimates, rather than overestimates, the manpower requirements for repair and modification service bulletins. The commenter recommends that the FAA reconsider using the Airbus average estimate of approximately 45 work hours as a minimum labor cost. The commenter notes that 60 work hours per aircraft is a better estimate to accomplish the referenced modification.

We do not agree that it is necessary to revise the cost estimates of the NPRM, which reflect only the direct costs of the specific required actions based on the best data available from the manufacturer. We recognize that operators may incur incidental costs (such as the time for planning, access and close, and associated administrative actions) in addition to the direct costs. The cost analysis in ADs, however, typically does not include incidental costs. The compliance times in this AD should allow ample time for operators to do the required actions at the same time as scheduled major airplane inspection and maintenance activities, which would reduce the additional time and costs associated with special scheduling. We have not changed the AD in this regard.

Explanation of Change to This AD

In the Summary section of the NPRM we inadvertently specified normal parking brake instead of normal brake, as follows, “This proposed AD would require modifying the parking brake system to automatically restore the normal parking brake if the parking brake pressure decreases below a certain threshold.” The correct language for the final rule is “This AD requires modifying the parking brake system to automatically restore the normal brake if the parking brake pressure decreases below a certain threshold.” We have corrected the error in this AD.

Explanation of Change to Applicability

We have changed the applicability of the NPRM to identify model designations as published in the most recent type certificate data sheet for the affected models.

Conclusion

We have carefully reviewed the available data, including the comments received, and determined that air safety and the public interest require adopting the AD with the changes described previously. These changes will neither increase the economic burden on any operator nor increase the scope of the AD.

Costs of Compliance

This AD will affect about 357 airplanes of U.S. registry. The modification will take about 23 work hours per airplane, at an average labor rate of $65 per work hour. Required parts will cost about $5,600 per airplane. Based on these figures, the estimated cost of the modification for U.S. operators is $2,532,915, or $7,095 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-17 Airbus:

Amendment 39-14311. Docket No. FAA-2005-20874; Directorate Identifier 2004-NM-279-AD.

Effective Date

(a) This AD becomes effective November 9, 2005.

Affected ADs

(b) None.

Applicability

(c) This AD applies to Airbus Model A319-111, -112, -113, -114, -115, -131, -132, and -133 airplanes; Model A320-111, -211, -212, -214, -231, -232, and -233 airplanes; and Model A321-111, -112, -131, -211 and -231 airplanes; certificated in any category; except those modified in production by Airbus Modification 30062.

Unsafe Condition

(d) This AD was prompted by a report of failure of the parking brake while the airplane was on the holding point of the runway before takeoff, leading to a runway departure. We are issuing this AD to ensure normal braking is available to prevent possible runway departure in the event of failure of the parking brake.

Compliance

(e) You are responsible for having the actions required by this AD performed within the compliance times specified, unless the actions have already been done.

Modification

(f) Within 52 months after the effective date of this AD: Modify the parking brake system by accomplishing all the actions specified in the Accomplishment Instructions of Airbus Service Bulletin A320-32-1201, Revision 02, dated February 1, 2005.

Modifications Accomplished Per Previous Issue of Service Information

(g) Modifications accomplished before the effective date of this AD in accordance with Airbus Service Bulletin A320-32-1201, Revision 01, dated May 29, 2002; are considered acceptable for compliance with the corresponding modification required by paragraph (f) of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) French airworthiness directive F-2004-137, dated November 10, 2004, also addresses the subject of this AD.

Material Incorporated by Reference

(j) You must use Airbus Service Bulletin A320-32-1201, Revision 02, dated February 1, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 26, 2005.
Ali Bahrami,
Manager, Transport Airplane Directorate, Aircraft Certification Service.

[FR Doc. 05-19874 Filed 10-4-05; 8:45 am]

BILLING CODE 4910-13-P